DEPARTMENT OF COMMERCE

International Trade Administration

[A-570-964]

Seamless Refined Copper Pipe and Tube From the People's Republic of China: Rescission of Antidumping Duty Administrative Review; 2018-2019

AGENCY: Enforcement and Compliance, International Trade Administration, Department of Commerce.

SUMMARY: The Department of Commerce (Commerce) is rescinding the administrative review of the antidumping duty order on seamless refined copper pipe and tube (copper pipe and tube) from the People's Republic of China (China) for the period November 1, 2018 through October 31, 2019.

DATES: Applicable June 30, 2020.

FOR FURTHER INFORMATION CONTACT: Maisha Cryor, AD/CVD Operations, Office IV, Enforcement and Compliance, International Trade Administration, U.S. Department of Commerce, 1401 Constitution Avenue NW, Washington, DC 20230; telephone: (202) 482-5831.

SUPPLEMENTARY INFORMATION:

Background

On November 1, 2019, Commerce published a notice of opportunity to request an administrative review of the antidumping duty order on copper pipe and tube from China ¹ for the period of review (POR) November 1, 2018 through October 31, 2019.²

¹ See Seamless Refined Copper Pipe and Tube from Mexico and the People's Republic of China: Antidumping Duty Orders and Amended Final Determination of Sales at Less Than Fair Value From Mexico, 75 FR 71070 (November 22, 2010) (Order).

² See Antidumping or Countervailing Duty Order, Finding, or Suspended Investigation; Opportunity to Request Administrative Review, 84 FR 58690, 58691 (November 1, 2019).

On November 29, 2019, Golden Dragon Precise Copper Tube Group, Inc.; Hong Kong GD Trading Co., Ltd., and Golden Dragon Holding (Hong Kong) International, Ltd. (collectively, Golden Dragon), Chinese producers and exporters of copper pipe and tube, timely requested an administrative review of the Order with respect to their entries of subject merchandise during the POR.³ No other party requested an administrative review of the Order. On January 17, 2020, in accordance with section 751(a) of the Tariff Act of 1930, as amended (the Act) and 19 CFR 351.221(c)(1)(i), Commerce published in the Federal Register a notice of initiation of an administrative review.⁴ On March 5, 2020, Commerce issued its initial antidumping questionnaire to Golden Dragon.⁵ On April 8, 2020, Golden Dragon timely withdrew its request for an administrative review.⁶ On April 24, 2020, Commerce tolled all deadlines in administrative reviews by 50 days, due to COVID-19.⁷

³ See Golden Dragon's Letter, “Seamless Refined Copper Pipe and Tube from China: Request for Antidumping Duty Administrative Review,” dated November 29, 2019.

⁴ See Initiation of Antidumping and Countervailing Duty Administrative Reviews, 85 FR 3014, 3021 (January 17, 2020).

⁵ See Commerce's Letter, “2018-2019 Antidumping Duty Administrative Review of Seamless Refined Copper Pipe and Tube from the People's Republic of China,” dated March 5, 2020.

⁶ See Golden Dragon's Letter, “Withdrawal of Request for Review, Seamless Refined Copper Pipe and Tube from China” dated April 8, 2020.

⁷ See Memorandum, “Tolling of Deadlines for Antidumping and Countervailing Duty Administrative Reviews in Response to Operational Adjustments Due to COVID-19,” dated April 24, 2020.

Rescission of Review

Pursuant to 19 CFR 351.213(d)(1), Commerce will rescind an administrative review, in whole or in part, if the party that requested the review withdraws its request within 90 days of the date of publication of the notice of initiation of the requested review. In this case, Golden Dragon withdrew its request by the 90-day deadline, and no other party requested an administrative review of the Order with respect to Golden Dragon. Therefore, we are rescinding the administrative review of the Order for the period November 1, 2018 through October 31, 2019, in its entirety.

Assessment

Commerce intends to instruct U.S. Customs and Border Protection (CBP) to assess antidumping duties on all appropriate entries of copper pipe and tube from China during the POR at rates equal to the cash deposit of estimated antidumping duties required at the time of entry, or withdrawal from warehouse, for consumption, in accordance with 19 CFR 351.212(c)(1)(i). Commerce intends to issue appropriate assessment instructions to CBP 15 days after the date of publication of this notice in the Federal Register.

Notification To Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a violation which is subject to sanction.

This notice is issued and published in accordance with sections 751(a)(1) and 777(i)(1) of the Act, and 19 CFR 351.213(d)(4).

Dated: June 25, 2020.
James Maeder,
Deputy Assistant Secretary for Antidumping and Countervailing Duty Operations.

[FR Doc. 2020-14190 Filed 6-30-20; 8:45 am]

BILLING CODE 3510-DS-P